DEPARTMENT OF HEALTH AND HUMAN SERVICES

Centers for Disease Control and Prevention

[60Day-07-06AC]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Joan F. Karr, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Low Back Exposure Assessment Tool for Mining—NEW—National Institute for Occupational Safety and Health (NIOSH), Centers for Disease Control and Prevention (CDC).

Background and Brief Description

The Federal Mine Safety & Health Act of 1977, Section 501, enables CDC/NIOSH to carry out research relevant to the health and safety of workers in the mining industry. Mining has one of the highest incidence rates for back pain of any industry, and back injuries are consistently the leading cause of lost work days in the industry. The objective of this project is to develop a self-administered, paper and pencil risk assessment tool for the development of low back disorders specifically directed towards use in the mining industry. Many current methods of assessing the risk of low back disorders do not address stressors that are relatively unique to the mining environment, including the restricted vertical spaces in many coal mines that require workers to adopt stooping or kneeling postures for extended periods of their workday.

The low back exposure assessment tool for mining will assess various occupational exposures associated with development of back disorders in the literature (postural demands, lifting, whole body vibration exposure, individual and psychosocial issues), as well as specific mining stressors and will develop a score that will be used to assess the degree of risk for the job and the individual. The tool will be useful in both prioritizing jobs that need interventions to reduce low back disorder risk, and in evaluating the effectiveness of interventions through tool administration before and after the implementation of an intervention. There will be no cost to the respondents other than their time.

Estimated Annualized Burden Hours:

Respondents | Number of respondents | Number of responses per respondent | Average burden per response (in hours) | Total burden hours
Surface and Underground Miners | 320 miners | 1 | 15/60 | 80

Dated: March 27, 2007.
Joan F. Karr,
Acting Reports Clearance Officer, Centers for Disease Control and Prevention.

[FR Doc. E7-6139 Filed 4-2-07; 8:45 am]

BILLING CODE 4163-18-P